DEPARTMENT OF THE INTERIOR

Bureau of Land Management

DEPARTMENT OF AGRICULTURE

Forest Service

Notice of Public Meeting, Santa Rosa and San Jacinto Mountains National Monument Advisory Committee; CA

AGENCY: Bureau of Land Management, Interior; and Forest Service, USDA.

ACTION: Notice of public meeting.

SUMMARY: In accordance with the Santa Rosa and San Jacinto Mountains National Monument Act of 2000 and the Federal Advisory Committee Act of 1972, the U.S. Department of the Interior, Bureau of Land Management (BLM) and U.S. Department of Agriculture, Forest Service (Forest Service) Santa Rosa and San Jacinto Mountains National Monument Advisory Committee (MAC) will meet as indicated below.

DATES: September 19, 2011. The meeting will start at 3 p.m. and end at 6 p.m. with the public comment period beginning at 4 p.m. The meeting will be held at the County of Riverside Permit Assistance Center, Second Floor Conference Room, 38686 El Cerrito Road, Palm Desert, California.

FOR FURTHER INFORMATION CONTACT: Jim Foote, Monument Manager, Santa Rosa and San Jacinto Mountains National Monument, 1201 Bird Center Drive, Palm Springs, CA 92262, or telephone (760) 833-7136.

SUPPLEMENTARY INFORMATION: The MAC advises Secretary of the Interior and the Secretary of Agriculture, through the BLM and Forest Service, with respect to the preparation and implementation of a management plan for the National Monument. The meeting will focus on a variety of planning and management issues associated with the National Monument. All MAC meetings are open to the public. The public may present written comments to the MAC in advance of or at the meeting. Each formal MAC meeting will also have time allocated for receiving public comments. Depending on the number of persons wishing to comment and time available, the time for individual oral comments may be limited. Individuals who plan to attend and need special assistance, such as sign language interpretation or other reasonable accommodations, should contact the Monument Manager as provided above.

Dated: August 15, 2011.
John R. Kalish,
Field Manager, Palm Springs-South Coast Field Office, California Desert District, Bureau of Land Management.
Dated: August 15, 2011.
Laurie Rosenthal,
District Ranger, San Jacinto Ranger District, San Bernardino National Forest, Forest Service.

[FR Doc. 2011-22037 Filed 8-26-11; 8:45 am]

BILLING CODE 3410-11-P